DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 51091-93, dated August 18, 2010) is amended to reflect the reorganization of the Division of Adult and Community Health within the National Center for Chronic Disease Prevention and Health Promotion, Office of Noncommunicable Diseases, Injury and Environmental Health, Centers for Disease Control and Prevention.

Section C-B, Organization and Functions, is hereby amended as follows:

Delete in its entirety the mission statement for the Division of Adult and Community Health (CUCE) and insert the following.

Division of Adult and Community Health (CUCE). (1) Develops and promotes community-based interventions and programs; (2) provides national and international leadership in health education and health promotion; (3) conducts studies to enhance public health activities in health services and managed care; (4) manages public health research, training, cooperative, and intervention activities in diverse settings such as cities, universities, state health departments, and other countries; (5) promotes the understanding and improvement of the determinants and issues related to arthritis, aging, epilepsy, and emerging chronic disease and health promotion issues; (6) coordinates activities with other federal, state, and local governmental agencies, academia, and nongovernmental organizations, in cooperation with other components of NCCDPHP.

Delete in its entirety the functional statement for the Office of the Director (CUCE1) and insert the following:

Office of the Director (CUCEI). (1) Manages, coordinates, and evaluates the activities and programs of the division; (2) ensures that division activities are coordinated with other components of CDC both within and outside the center, with federal, state, and local health agencies, and with voluntary and professional health agencies; (3) provides leadership and coordinates division responses to requests for research, consultation, training, collaboration, and technical assistance or information on managed care, health promotion, aging, epilepsy, and arthritis; (4) provides administrative, logistical, and management support for division field staff; (5) provides administrative and management support for the division including guidance on the organization of personnel and the use of financial resources, and oversight of grants, cooperative agreements, contracts, and reimbursable agreements; (6) provides leadership and technical assistance to communities to promote policy, systems, and environmental changes that improve community health; (7) supports a network of academic researchers, public health agencies, and community members that conducts applied research in disease prevention and control.

Delete in their entirety the title and functional statement for the Arthritis, Epilepsy and Quality of Life Branch (CUCç) and insert the following:

State Support, Arthritis, Epilepsy and Quality of Life Branch (CUCEC). (1) Directs and supports activities to reach people affected by arthritis and improve their quality of life by fostering public health science and translating science into population based interventions; (2) coordinates CDC Preventive Health and Health Services Block Grant (PHHSBG) activities and develops and administers guidelines, uniform reporting procedures, and evaluation criteria for state programs supported by PHHSBG; (3) directs and supports activities that improve quality of life for people affected by epilepsy, including improving access to appropriate medical care and self-management support, improving policy and systems to support people with epilepsy, supporting surveillance, epidemiologic, and prevention research, combating stigma and increasing public awareness and knowledge about epilepsy; (4) directs and administers surveillance efforts that provide knowledge to influence the public health community to improve health related quality of life and well-being through public health action; (5) develops, validates refines and promotes health-related quality of life and well-being measures for use in surveillance, program planning, evaluation and public health intervention and policy development; (6) directs and coordinates the evaluation of community and state-based intervention programs for arthritis and epilepsy; (7) develops arthritis and health-related quality of life epidemiology capacity and other programmatic capabilities in state health department settings; and (8) disseminates health promotion and disease prevention programs and information through state and national partners.

Delete item (4) of the functional statement for the Emerging Investigations and Analytic Methods Branch (CUC1J and insert the following:

(4) performs research on adverse childhood events, mental health, and alcohol.

Delete in their entirety the title and functional statement for the Community Health and Program Services Branch (CUCEG) and insert the following:

Community Health and Equity Branch (CUCEG). (1) Provides technical assistance to state and local health agencies, community-based organizations, academic institutions, and other federal, national, and international organizations to plan, implement, and evaluate community-based chronic disease prevention and health promotion programs, with an emphasis on improving equity and reducing disparities; (2) develops, implements, and evaluates training in the areas of chronic disease intervention, social determinants of health, and community health promotion for state and local health departments, other agencies, and community organizations; (3) supports health promotion and disease prevention research conducted at university-based prevention centers; (4) develops chronic disease epidemiology capacity in state health departments through training and support of chronic disease field epidemiologists and other capacity building efforts; (5) provides professional statistical and programming services to the division, including assistance in design of data collection instruments, computer programming, and statistical analysis; (6) provides administrative and management support for the branch, including oversight of grants, cooperative agreements, contracts, and reimbursable agreements.

Dated: September 3, 2010.
William P. Nichols,
Chief Operating Officer, Centers for Disease Control and Prevention.

[FR Doc. 2010-23785 Filed 9-24-10; 8:45 am]

BILLING CODE 4160-18-M